DEPARTMENT OF JUSTICE

Notice of Lodging of Consent Decree Under Comprehensive Environmental Response, Compensation and Liability Act

Under 28 CFR 50.7, notice is hereby given that on November 12, 2009, a Consent Decree in United States v. Allen Greig & Perry, Inc., et al., No. 1:09-cv-482, was lodged with the United States District Court for the District of Maine.

The proposed Consent Decree resolves claims of the United States, on behalf of the Environmental Protection Agency (“EPA”) and the U.S. Department of the Interior, Fish and Wildlife Service (“DOI”), under the Comprehensive Environmental Response, Compensation, and Liability Act (“CERCLA”), 42 U.S.C. 9601 et seq., in connection with the West Site/Hows Corner Superfund Site in Plymouth, Maine (“Site”), against 82 defendants.

The Consent Decree requires two settling defendants (“Performing Parties”) to perform the remedial action set forth in EPA's 2002 and 2006 Records of Decision (“RODs”) for the Site. The remedial action includes: Groundwater containment with on-site treatment for the “Source Area Groundwater” (as described in the 2002 ROD); groundwater restoration of the Non-Source Area Groundwater through monitored natural attenuation; a technical impracticability waiver for the Source Area Groundwater; institutional controls; long-term monitoring of groundwater, surface water, sediments, indoor air/vapors (if required by EPA), and institutional controls; operation and maintenance; residential well monitoring with a contingency for public water; and vapor intrusion investigation and response. The Consent Decree also requires the Performing Parties to pay: $10,953 to the State of Maine for its past costs; $900,000 to the State in prepayment of future oversight costs; $6,500 to DOI for its natural resource damages assessment costs; and $59,427 to the State for its natural resource damages assessment costs. The Consent Decree also requires the settlors to implement a natural resources project comprising the purchase of two parcels totalling 752.5 acres and making them subject to restrictive covenants. The two parcels will then be conveyed to the State to be held in perpetuity in a protected status as part of a State wildlife management area and will be used as a drinking water source. The Consent Decree also provides that the other 80 settling defendants pay, in aggregate, $14,878,397. These payments will be deposited into a trust account that is being managed by the Performing Parties. These funds will be available to fund the payments and the work as required under the Consent Decree.

The Consent Decree also resolves potential contribution claims by the 82 settlors against five settling federal agencies (“SFAs”) in exchange for up-front payments totalling $63,661 by the SFAs, and payments by them collectively of 44.15% of the cost of the remedy after the trust funds are exhausted. The five SFAs are the Defense Logistics Agency/DRMS, the U.S. Coast Guard, the U.S. Air Force, the Army and Air Force Exchange Service, and the U.S. Army.

The Consent Decree provides that the settlors are entitled to contribution protection as provided by Section 113(f)(2) of CERCLA, 42 U.S.C. 9613(f)(2), for matters addressed by the settlement. The matters addressed by the Consent Decree are all response actions taken or to be taken and all response costs incurred or to be incurred by the United States, the State or any other person with respect to the Site and all damages for natural resources at the Site under the trusteeship of DOI or the State.

The Department of Justice will receive for a period of 30 days from the date of this publication comments relating to the proposed Consent Decree. Comments should be addressed to the Assistant Attorney General of the Environment and Natural Resources Division, Department of Justice, Washington, DC 20530, and either e-mailed to pubcomment-ees.enrd@usdoj.gov or mailed to P.O. Box 7611, U.S. Department of Justice, Washington, DC 20044-7611, and should refer to: United States v. Allen Greig & Perry, Inc., et al., No. 1:09-cv-482, D.J. No. 90-11-3-1733/7. Commenters may request an opportunity for a public meeting in the affected area, in accordance with Section 7003(d) of RCRA, 42 U.S.C. 6973(d).

The proposed Consent Decree may be examined at the Office of the United States Attorney, District of Maine, 100 Middle Street, Portland, Maine 04104. During the public comment period, the proposed Consent Decree may also be examined on the following Department of Justice Web site, http://www.usdoj.gov/enrd/Consent_Decrees.html. A copy of the proposed Consent Decree may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the proposed Consent Decree, please enclose a check in the amount of $170.50 (25 cents per page reproduction cost) payable to the U.S. Treasury.

Maureen Katz,
Assistant Section Chief, Environmental Enforcement Section, Environment and Natural Resources Division.

[FR Doc. E9-27783 Filed 11-18-09; 8:45 am]

BILLING CODE 4410-15-P